DEPARTMENT OF EDUCATION

Applications for New Awards; College Assistance Migrant Program

AGENCY: Office of Elementary and Secondary Education, Department of Education.

ACTION: Notice; correction.

SUMMARY: On February 8, 2019, we published in the Federal Register (FR) a notice inviting applications (NIA) for fiscal year (FY) 2019 for the College Assistance Migrant Program (CAMP), Catalog of Federal Domestic Assistance (CFDA) number 84.149A. This notice corrects the national target pertaining to a performance measure that applies to this program.

DATES: Deadline for Transmittal of Applications: April 9, 2019.

Deadline for Intergovernmental Review: June 10, 2019.

FOR FURTHER INFORMATION CONTACT: Carla Kirksey, U.S. Department of Education, 400 Maryland Avenue SW, Room 3E337, Washington, DC 20202. Telephone: (202) 260-2114. Email: carla.kirksey@ed.gov.

If you use a telecommunications device for the deaf (TDD) or a text telephone (TTY), call the Federal Relay Service (FRS), toll free, at 1-800-877-8339.

SUPPLEMENTARY INFORMATION: On February 8, 2019, we published in the Federal Register an NIA for this program (84 FR 2835) that identified national targets for CAMP Government Performance and Results Act of 1993 (GPRA) performance measures. Additionally, we posted an application package for the program on the Department's website at https://www2.ed.gov/programs/camp/fy19-camp-application.pdf and Grants.gov.

Since that time, we have discovered that the CAMP NIA incorrectly identifies the national target for GPRA measure 2, the percentage of CAMP participants who, after completing the first academic year of college, continue their postsecondary education, as 85 percent for FY 2019. The correct national target for GPRA measure 2 is 90 percent for FY 2019. Additionally, the CAMP application package instructions incorrectly identify the GPRA measure 2 as 85 percent on page 60; the application package instructions, however, correctly identify the CAMP GPRA measure 2 as 90 percent on page 8 of the application package. We previously announced in the publicly available CAMP FY 2017 Program Performance Report that the CAMP GPRA measure 2 is 90 percent for FY 2019. We are publishing this correction notice to clarify that the CAMP GPRA measure 2 remains 90 percent for FY 2019.

Applicants that have already submitted timely applications may submit a revised application that contains the correct national target for CAMP GPRA measure 2, but are not required to do so. Applicants that have already submitted timely applications and do not submit a revised application will still be expected to meet the correct national target for CAMP GPRA measure 2 identified in this notice.

Instructions for submitting an application can be found in the NIA.

Correction: In FR Document 2019-01701, on page 2839, in the first column, in the second paragraph of the section entitled “Performance Measures,” we replace “The national target for GPRA measure 2 for FY 2019 is that 85 percent of CAMP participants continue their postsecondary education after completing the first academic year of college” with “The national target for GPRA measure 2 for FY 2019 is that 90 percent of CAMP participants continue their postsecondary education after completing the first academic year of college.”

Program Authority: 20 U.S.C. 1070d-2.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: March 22, 2019.
Frank T. Brogan,
Assistant Secretary for Elementary and Secondary Education.

[FR Doc. 2019-05883 Filed 3-26-19; 8:45 am]

BILLING CODE 4000-01-P